DEPARTMENT OF DEFENSE

Department of the Air Force

Proposed Collection; Comment Request

AGENCY: Department of the Air Force, DoD.

ACTION: Notice.

In compliance with section 3506(c)(2)(A) of the Paperwork Reduction Act of 1995, Headquarters Air Force Reserve Officer Training Corps announces the proposed renewal of a public information collection and seeks public comment on the provisions thereof. Comments are invited on: (a) Whether the proposed collection of information is necessary for the proper performance of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Consideration will be given to all comments received by November 21, 2000.

ADDRESSES: Written comments and recommendations on the proposed information collections should be sent to HQ AFROTC/RRU, 551 East Maxwell Boulevard, Maxwell AFB, AL 36112-6106. Comments can also be submitted via e-mail to kyle.monson@maxwell.af.mil.

FOR FURTHER INFORMATION CONTACT: To request more information on this proposed collection or to obtain a copy of the proposal and associated collection instruments, please write to the above addresses or call (334) 953-2829.

Title, Associated Form, and OMB Number: Air Force ROTC Scholarship Nomination, OMB Number 0701-0103.

Needs and Uses: The information collection requirement is used by the Air Force to identify the best-qualified applicants for the scholarship, providing for a “whole person” evaluation.

Affected Public: College students who apply for an Air Force ROTC scholarship.

Annual Burden Hours: 250.

Number of Respondents: 500.

Responses Per Respondent: 1.

Average Burden Per Response: 30 Minutes.

Frequency: On occasion.

SUPPLEMENTARY INFORMATION:

Summary of Information Collection

Respondents are college students who apply for an Air Force ROTC college scholarship. This form collects identification and academic performance data, academic aptitude scores, and the Professor of Aerospace Studies (PAS) evaluation of the applicant's performance and potential. This application will require approximately 30 minutes to complete. Submitted data will be evaluated by Air Force ROTC In-College Scholarship selection boards to determine eligibility and to select individuals for the award of a college scholarship involving the expenditure of federal funds.

Janet A. Long,
Air Force Federal Register Liaison Officer.

[FR Doc. 00-21532 Filed 8-22-00; 8:45 am]

BILLING CODE 5001-05-U